FEDERAL COMMUNICATIONS COMMISSION

Information Collection(s) Being Submitted for Review and Approval to the Office of Management and Budget (OMB)

AGENCY: Federal Communications Commission.

ACTION: Notice; request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: Whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before December 17, 2012. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, FCC, at 202-418-0214.

SUPPLEMENTARY INFORMATION:

OMB Control Number: 3060-1031.

Title: Commission's Initiative to Implement Enhanced 911 (E911) Emergency Services.

Form Number: N/A.

Type of Review: Extension of a currently approved collection.

Respondents: Business or other for-profit entities, not-for-profit institutions, and state, local or tribal government.

Number of Respondents: 858 respondents; 1,992 responses.

Estimated Time per Response: 3.3012048 hours.

Frequency of Response: On occasion and one time reporting requirements, recordkeeping requirements and third party disclosure requirements.

Obligation to Respond: Voluntary. Statutory authority for this information collection is contained in 47 U.S.C. sections 154(i), 160, 201, 251-254, 303 and 332 of the Communications Act of 1934, as amended.

Total Annual Burden: 10,168 hours.

Total Annual Cost: N/A.

Privacy Impact Assessment: N/A.

Nature and Extent of Confidentiality: Although the Commission does not believe that any confidential information will need to be disclosed in order to comply with the certification and notification requirements and the corresponding PSAP response provisions, covered carriers or PSAPs are free to request that materials or information submitted to the Commission be withheld from public inspection and from the E911 Web site. Entities wishing to submit confidential information may do so under 47 CFR 0.459 of the Commission's rules.

Needs and Uses: The Commission is now submitting this collection to the Office of Management and Budget (OMB) for approval of an extension of this information collection. There is no change to the reporting, recordkeeping and/or third party disclosure requirements. The Commission's previous burden estimates (2009) have not changed.

Under the Commission's E911 rules, a wireless carrier must provide E911 service to a particular Public Safety Answering Point (PSAP) within six months only if that PSAP makes a request for the service and is capable of receiving and utilizing the information provided. In the City of Richardson, TX Order, the Commission's actions were intended to facilitate the E911 implementation process by encouraging parties to communicate with each other earl in the implementation process, and to maintain a constructive, on-going dialog throughout the implementation process. See the 60 day notice for more details on the specific information collection requirements in this information collection which was published in the Federal Register on August 28, 2012 (77 FR 52028).

Federal Communications Commission.
Marlene H. Dortch,
Secretary, Office of the Secretary, Office of Managing Director.

[FR Doc. 2012-27795 Filed 11-15-12; 8:45 am]

BILLING CODE 6712-01-P